DEPARTMENT OF ENERGY

Federal Energy Regulatory Commission

[Docket No. RP02-17-002]

Tennessee Gas Pipeline Company; Notice of Compliance Filing

January 2, 2002.

Take notice that on December 21, 2001, Tennessee Gas Pipeline Company (Tennessee) tendered for filing as part of its FERC Gas Tariff, Fifth Revised Volume No. 1, Second Substitute First Revised Sheet No. 23F, Eighteenth Revised Sheet No. 25, Original Sheet No. 25A, and Substitute Sixth Revised Sheet No. 159, with an effective date of December 1, 2001.

Tennessee states that the purpose of this filing is to comply with the December 14 Order, in which the Commission approved Tennessee's proposal to provide Extended Receipt Service (ERS) and Extended Delivery Service (EDS) on Incremental Laterals for shippers receiving firm transportation service under Rate Schedule FT-A, but required Tennessee to file revised tariff sheets to properly reflect the services in the tariff.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-349 Filed 1-7-02; 8:45 am]

BILLING CODE 6717-01-P